DEPARTMENT OF ENERGY

Federal Energy Regulatory Commission

[Docket No. RP00-602-000]

Dominion Transmission Inc.; Notice of Proposed Changes in FERC Gas Tariff

October 3, 2000.

Take notice that on September 29, 2000, Dominion Transmission Inc. (DTI), tendered for filing as part of its FERC Gas Tariff, Third Revised Volume No. 1, the following tariff sheets, with an effective date of November 1, 2000:

First Revised Sheet No. 31

First Revised Sheet No. 32

First Revised Sheet No. 33

First Revised Sheet No. 34

First Revised Sheet No. 35

First Revised Sheet No. 37

DTI states that the purpose of this filing is to comply with Article VII, Section G, of the August 31, 1998, Stipulation and Agreement in Docket Nos. RP97-406, et al., approved by the Commission in CNG Transmission Corporation, 85 FERC ¶ 61,261 (1998). That settlement provides for the phased conversion of firm storage services under Rate Schedule GSS-II, to corresponding services under Rate Schedule GSS and Rate Schedule FT (FT-GSS). Article VII, Section G permits DTI to implement base rate changes to reflect each phase of the conversion.

DTI states that copies of this letter of transmittal and enclosures are being served upon DTI's customers and interested state commissions.

Any person desiring to be heard or to protest said filing should file a motion to intervene or a protest with a Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25862 Filed 10-6-00; 8:45 am]

BILLING CODE 6717-01-M